DEPARTMENT OF HOUSING AND URBAN DEVELOPMENT

[Docket No. FR-5557-D-04]

Delegations of Authority for the Office of Housing—Federal Housing Administration (FHA); Redelegations of Authority to Other HUD Offices

AGENCY: Office of the Assistant Secretary for Housing—Federal Housing Commissioner, HUD.

ACTION: Notice of redelegations of authority.

SUMMARY: This notice updates the notice of redelegations of authority published on October 12, 2006, by the Assistant Secretary for Housing Federal Housing Commissioner to HUD officials in HUD offices other than the Office of Housing.

DATES: Effective Date: June 5, 2012.

FOR FURTHER INFORMATION CONTACT: Office of the Associate General Deputy Assistant Secretary for Housing—Federal Housing Commissioner, Department of Housing and Urban Development, 451 Seventh Street SW., Room 9110, Washington, DC 20410-8000, phone 202-708-2601. (This is not a toll-free number.) Persons with hearing or speech impairments may access this number through TTY by calling the toll-free Federal Relay Service at 800-877-8339.

SUPPLEMENTARY INFORMATION:

I. Background

Housing legislation and programs are implemented and administered by the Office of Housing. However, in some instances, the nature of a statute or program, or component thereof, requires another HUD office to conduct the program or participate in its administration. On October 12, 2006 (71 FR 60168), the Assistant Secretary for Housing—Federal Housing Commissioner (Assistant Secretary for Housing) redelegated certain authority to the Office of Fair Housing and Equal Opportunity (FHEO) and the Office of the General Counsel (General Counsel) and revoked all prior redelegations from the Assistant Secretary for Housing to these HUD offices.

The October 12, 2006, publication also reiterated and updated the authority previously redelegated to the General Counsel. (That previous notice of redelegation of authority was published on March 12, 2004 (69 FR 11880).

Today's notice reaffirms the authority previously redelegated by the Assistant Secretary for Housing to the General Counsel. Please note that the redelegation of authority to the General Counsel does not affect the authority of the Mortgagee Review Board, described in 24 CFR 30.35, or of the Assistant Secretary for Housing to initiate civil money penalty actions.

In addition, today's notice revokes authority previously redelegated by the Assistant Secretary for Housing to the Assistant Secretary for Fair Housing and Equal Opportunity. Previously, certain programmatic regulation authorities exercised by the Secretary of HUD over the Government Sponsored Enterprises (GSEs) pursuant to the Federal Housing Enterprises Financial Safety and Soundness Act of 1992 (FHEFSSA), 12 U.S.C 4501 et seq., had been delegated to the Assistant Secretary for Housing. Certain of these oversight requirements involving affordable housing goals were implemented by the Office of Housing; certain other oversight requirements involving fair housing performance by the GSEs were implemented by the Office of Fair Housing and Equal Opportunity (FHEO) pursuant to a redelegation to that office by the Assistant Secretary for Housing. At this time, regulatory authority over the GSEs has been vested in the Federal Housing Finance Agency pursuant to the Housing and Economic Recovery Act of 2008 (Pub. L. 110-289, approved July 30, 2008) except for certain fair housing requirements which fall wholly within the purview of the Office of Fair Housing and Equal Opportunity. Therefore, this notice revokes the previous October 2006 redelegation of authority from the Assistant Secretary for Housing to the Assistant Secretary for Fair Housing and Equal Opportunity. By separate notice HUD will publish a delegation from the Secretary of HUD to the Assistant Secretary for Fair Housing and Equal Opportunity for these residual oversight activities.

II. Authority Revoked

The Assistant Secretary for Housing and the General Deputy Assistant Secretary for Housing—Deputy Federal Housing Commissioner (General Deputy Assistant Secretary for Housing) and the Associate General Deputy Assistant Secretary for Housing revoke the previous redelegation of authority to the Assistant Secretary for Fair Housing and Equal Opportunity.

III. Authority Redelegated

Authority is redelegated to the General Counsel to issue a notice of violation under the terms of a regulatory agreement and a notice of default under the terms of a section 8 housing assistance payments contract, Rental Assistance Payment Contract, Project Rental Assistance Contract or Use Agreement, and to take all actions permitted under 24 CFR 30.36, 24 CFR 30.45, and 24 CFR 30.68.

IV. Authority Excepted

The authority redelegated in Section III does not include the authority to waive regulations under the program jurisdiction of the Assistant Secretary for Housing.

V. Further Redelegations

The General Counsel is authorized to redelegate the authority redelegated in Section III, above. This notice has no impact upon the redelegation of authority issued by the General Counsel to the Departmental Enforcement Center on July 18, 2011 (76 FR 42463).

VI. Prior Redelegations Superseded

The previous redelegations of authority to the Assistant Secretary for Fair Housing and Equal Opportunity and the General Counsel, published on October 12, 2006 are superseded by this notice.

VII. Revocation of Authority

The Assistant Secretary for Housing—Federal Housing Commissioner, General Deputy Assistant Secretary for Housing or Associate General Deputy Assistant Secretary for Housing may revoke the authority authorized herein, in whole or part, at any time. Any revocation or modification of a redelegation will be published in the Federal Register.

Authority: Section 7(d), Department of Housing and Urban Development Act, 42 U.S.C. 3535(d).

Dated: June 5, 2012.
Carol J. Galante,
Acting Assistant Secretary for Housing—Federal Housing Commissioner.

[FR Doc. 2012-15069 Filed 6-19-12; 8:45 am]

BILLING CODE 4210-67-P